Proclamation 9240 of February 27, 2015

Read Across America Day, 2015

By the President of the United States of America

A Proclamation

As a Nation, one of our greatest responsibilities is to ensure every American child can experience the transformative power of reading. Literacy is the gateway to all other learning, and it is the most basic building block of opportunity in an economy increasingly built on knowledge and innovation. On Read Across America Day, we celebrate the ways literacy has enhanced our lives and recommit to empowering every student with a strong start and a passion for reading.

The written word provides a window to a larger world. From prose and poetry, we learn our earliest lessons about tolerance and empathy, and on the pages of great books, children can see for the first time that their potential is limited only by the size of their dreams and the power of their imaginations. Literature captures moral dilemmas that persist across generations, chronicles our greatest achievements as a people, and reminds us of painful chapters in our past so we do not repeat our mistakes. In powerful tales and in the voices of complex characters, we learn eternal truths that illuminate the spirit of America and the intimacy of the human condition.

Brilliant writers enable us to stand in someone else's shoes and identify with their hopes and struggles—even if they do not look like us or share our beliefs. They transport us to distant times and faraway lands, and today we honor a storyteller who brought these new worlds into classrooms and bedrooms all around the globe. The works of Theodor Seuss Geisel, better known to us as Dr. Seuss, have sparked a love for reading in generations of students. His whimsical wordplay and curious characters inspire children to dream big and remind readers of all ages that “a person's a person no matter how small.”

Reading is the means by which we discover new ideas and unlock the potential of tomorrow's leaders. As we recognize the importance of literacy, let us resolve to play a part in developing the next generation of readers and writers. As mentors, friends, and caring adults, we can raise our voices to support the resources our students need in classrooms and libraries, and take time to engage young people in this critical endeavor. Together, we can enrich our souls, strengthen our society, and give every child a chance to succeed.

NOW, THEREFORE, I, BARACK OBAMA, President of the United States of America, by virtue of the authority vested in me by the Constitution and the laws of the United States, do hereby proclaim March 2, 2015, as Read Across America Day. I call upon children, families, educators, librarians, public officials, and all the people of the United States to observe this day with appropriate programs, ceremonies, and activities.

IN WITNESS WHEREOF, I have hereunto set my hand this twenty-seventh day of February, in the year of our Lord two thousand fifteen, and of the Independence of the United States of America the two hundred and thirty-ninth.

[FR Doc. 2015-04518

Filed 3-3-15; 11:15 am]

Billing code 3295-F5